ENVIRONMENTAL PROTECTION AGENCY

[FRL 7469-2]

Bioavailability Workshop on In Vitro and In Vivo Testing Methods for Metals

AGENCY: Environmental Protection Agency (EPA)

ACTION: Notice of public meetings.

SUMMARY: This notice announces a public meeting to gather comments from expert scientists and others on in vivo and in vitro-testing protocols for metals which may be applicable at cleanup activities. The 2003 U.S. EPA Bioavailability Workshop will be a 2-day meeting (4 half-day panel sessions) to provide the EPA with expert technical opinions specific to applications of bioavailability measurements for human health risk assessment. The EPA expects to use information presented during this workshop in its efforts to establish the most scientifically-sound approach to utilizing bioavailability measurements at contaminated sites. National experts will participate through presentations and panel discussions. Candid scientific discussion will be encouraged among invited scientists and the workshop audience. A contractor will collect summary notes and comments during the presentations. No formal publication is anticipated although individual authors and presenters may submit manuscripts to journals after presenting the data to EPA. This meeting is being sponsored by EPA's Office of Solid Waste and Emergency Response, the Science Policy Council of EPA's Office of Research and Development, EPA Region 7 and EPA Region 8. There is no charge for attending the conference.

DATES: The workshop will be held on April 15 and 16, 2003. The workshop hours will be from 8:30 am to 4 pm on April 15 and from 8 am to 3 pm on Wednesday, April 16.

ADDRESSES: The workshop will be held at the Safety Harbor Resort, 105 N. Bayshore Drive, Tampa, Florida, 34695. To attend the workshop as an observer, contact Syracuse Research Corp. (SRC) by electronic mail, or by telephone. The electronic registration web site is at http://conference.syrres.com/bcreg.htm. Other information can be obtained by calling SRC at 207-883-2605. Individuals need to make their own reservations.

FOR FURTHER INFORMATION CONTACT: For general information, contact the RCRA/CERCLA Call Center at 800-424-9346 or TDD 800-553-7672 (hearing impaired). In the Washington, DC metropolitan area, call 703-412-9810 or TDD 703-412-3323. For more detailed technical information on this conference call Richard Troast (703-603-8805) Office of Emergency and Remedial Response, U.S. Environmental Protection Agency, 1200 Pennsylvania Avenue, NW., Washington, DC 20460-0002, Mail Code 5204G. Information concerning the meeting (including agenda, speaker list, and registration) is available online at http://conference.syrres.com/.

David Lopez,
Director, Region 3/8 Support Center, OERR

[FR Doc. 03-6580 Filed 3-18-03; 8:45 am]

BILLING CODE 6560-50-M